FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

AGLI Maritime, Ltd. (OFF), 754 Foster Avenue, Bensenville, IL 60106, Officers: Melissa Smith, Vice President/Secretary, (Qualifying Individual), Thomas Smith, Shareholder/Director/President, Application Type: New OFF License.

Ashimiyu Alowonle dba Classique Companies (NVO & OFF), 6001 Loneoak Road, #2, Rockford, MN 55373, Officer: Ashimiyu Alowonle, Sole Proprietor, (Qualifying Individual), Application Type: New NVO & OFF License.

Direct Express Intermodal, LLC (NVO & OFF), 3399 Peachtree Road, #1130, Atlanta, GA 30326, Officer: James J. Briles III, President/CEO, (Qualifying Individual), Application Type: New NVO & OFF License.

Grupo Delpa Corp (NVO & OFF), 3403 NW 82nd Avenue, Suite 330, Doral, FL 33122, Officers: Alfred J. Silva, Vice President Operations, (Qualifying Individual), Daniel A. Urra, President, Application Type: New NVO & OFF License.

Iris International USA LLC (NVO), 94 Franklin Street, Haworth, NJ 07641, Officer: Chang Gil Kim, Member, (Qualifying Individual), Application Type: New NVO License

Dated: January 27, 2012.
Rachel E. Dickon,
Assistant Secretary.

[FR Doc. 2012-2226 Filed 1-31-12; 8:45 am]

BILLING CODE 6730-01-P